DEPARTMENT OF ENERGY

Federal Energy Regulatory Commission

[Docket No. CP11-118-000]

Texas Eastern Transmission, LP; Notice of Request Under Blanket Authorization

Take notice that on March 2, 2011, Texas Eastern Transmission, LP (Texas Eastern), Post Office Box 1642, Houston, Texas 77251-1642, filed in Docket No. CP11-118-000, an application pursuant to Sections 157.205 and 157.216 of the Commission's Regulations under the Natural Gas Act (NGA) as amended, to abandon in place an inactive pipeline segment in West Cameron Blocks 566, 565, and 548, offshore Louisiana, under Texas Eastern's blanket certificate issued in Docket No. CP82-535-000 ¹, all as more fully set forth in the application which is on file with the Commission and open to the public for inspection.

¹ 21 FERC ¶ 62,199 (1982).

Texas Eastern proposes to abandon in place approximately 4.5 miles of 20-inch diameter pipeline (Segment) on its Line 41-A-6 in West Cameron Blocks 566, 565, and 548, offshore Louisiana. The Segment is inactive and no longer contributes to the natural gas volumes moved through Line 41-A-6. Texas Eastern states that its abandonment of the Segment would not result in the termination of any services to any of its customers and that no firm transportation agreements are tied to the Segment. Texas Eastern also states that it would cost approximately $19,930,000 to replicate the facilities today.

Any questions concerning this application may be directed to Berk Donaldson, Director, Rates & Certificates, Texas Eastern Transmission, LP, P.O. Box 1642, Houston, Texas 77251-1642, via telephone at (713) 627-4488, facsimile (713) 627-5947, or e-mail: bdonaldson@spectraenergy.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Dated: March 9, 2011.
Kimberly D. Bose,
Secretary.

[FR Doc. 2011-6051 Filed 3-15-11; 8:45 am]

BILLING CODE 6717-01-P